DEPARTMENT OF COMMERCE

National Oceanic and Atmospheric Administration

RIN 0648-XJ23

Endangered Species; File No. 10027

AGENCY: National Marine Fisheries Service (NMFS), National Oceanic and Atmospheric Administration (NOAA), Commerce.

ACTION: Issuance of permit.

SUMMARY: Notice is hereby given that the Center for Biodiversity and Conservation, American Museum of Natural History (AMNH), Central Park West at 79th Street, New York, New York 10024, has been issued a permit to take green (Chelonia mydas) and hawksbill (Eretmochelys imbricata) sea turtles for purposes of scientific research.

ADDRESSES: The permit and related documents are available for review upon written request or by appointment in the following offices:

Permits, Conservation and Education Division, Office of Protected Resources, NMFS, 1315 East-West Highway, Room 13705, Silver Spring, MD 20910; phone (301)713-2289; fax (301)427-2521;

Pacific Islands Region, NMFS, 1601 Kapiolani Blvd., Rm 1110, Honolulu, HI 96814-4700; phone (808)944-2200; fax (808)973-2941.

FOR FURTHER INFORMATION CONTACT: Amy Hapeman or Patrick Opay, (301)713-2289.

SUPPLEMENTARY INFORMATION: On November 16, 2007, notice was published in the Federal Register (72 FR 64584) that a request for a scientific research permit to take green and hawksbill sea turtles had been submitted by the above-named organization. The requested permit has been issued under the authority of the Endangered Species Act of 1973, as amended (ESA; 16 U.S.C. 1531 et seq.) and the regulations governing the taking, importing, and exporting of endangered and threatened species (50 CFR parts 222-226).

The AMNH is authorized a 5-year research permit to study green and hawksbill sea turtles at the Palmyra Atoll in the Pacific Ocean. Researchers may capture by hand or net, examine, measure, photograph, flipper and Passive Integrated Transponder tag, blood sample, carapace sample, shell etch and paint, fecal sample, measure their temperature, and release up to 300 green and 100 hawkbill sea turtles annually. The purpose of this work is to assess the population biology and connectivity of green and hawksbill sea turtles focusing on distribution and abundance, ecology, health, threats to sea turtles as well as implications for their management and conservation. A subset of animals may be gastric lavaged or have transmitters affixed to the carapace before release. Additionally, researchers are authorized to collect the carcass, tissues and/or parts of encountered dead animals from 30 green and 10 hawksbill sea turtles annually.

Issuance of this permit, as required by the ESA, was based on a finding that such permit (1) was applied for in good faith, (2) will not operate to the disadvantage of such endangered or threatened species, and (3) is consistent with the purposes and policies set forth in section 2 of the ESA.

Dated: July 23, 2008.
P. Michael Payne,
Chief, Permits, Conservation and Education Division, Office of Protected Resources, National Marine Fisheries Service.

[FR Doc. E8-17465 Filed 7-29-08; 8:45 am]

BILLING CODE 3510-22-S